DEPARTMENT OF ENERGY

Federal Energy Regulatory Commission

[Docket No. PR04-2-000]

The Peoples Gas Light and Coke Company; Notice of Informational Filing

November 17, 2003.

Take notice that on November 7, 2003, The Peoples Gas Light and Coke Company (Peoples) tendered for filing cost and throughput data in compliance with the Commission Order issued on March 31, 2001 in Docket No. PR01-2-000 (94 FERC 91 ¶ 61,402 (2001)). Peoples states that it requests no change in its existing rates or terms and conditions of service.

Any person desiring to participate in this rate proceeding must file a motion to intervene or protest with the Federal Energy Regulatory Commission, 888 First Street, NE., Washington DC 20426, in accordance with 385.214 or 385.211 of the Commission's Rules and Regulations. All such motions or protests must be filed with the Secretary of the Commission on or before the date as indicated below. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “eLibrary” link. Enter the docket number excluding the last three digits in the docket number field to access the document. For assistance, call (866) 208-3676 or for TTY, (202) 502-8659. Comments, protests and interventions may be filed electronically via the Internet in lieu of paper. The Commission strongly encourages electronic filings. See, 18 CFR 385.2001(1)(iii) and the instructions on the Commission's Web site under the “e-Filing” link.

Comment Date: December 5, 2003.

Magalie R. Salas,
Secretary.

[FR Doc. E3-00361 Filed 11-21-03; 8:45 am]

BILLING CODE 6717-01-P